DEPARTMENT OF ENERGY

Change in Scoping Meeting Schedule for the Supplement to the Stockpile Stewardship and Management Programmatic Environmental Impact Statement—Complex 2030

AGENCY: National Nuclear Security Administration, Department of Energy.

ACTION: Notice of Change in Scoping Meeting Schedule.

SUMMARY: On October 19, 2006, NNSA published a Notice of Intent (NOI) to Prepare a Supplement to the Stockpile Stewardship and Management Programmatic Environmental Impact Statement—Complex 2030 (Complex 2030 Supplemental PEIS; DOE/EIS-0236-S4; 71 FR 61731). NNSA has changed the location of the public scoping meeting scheduled for Los Alamos, New Mexico, and has extended the time for the public scoping meeting scheduled for Livermore, California.

DATES: The NOI identified the Mesa Public Library as the location of the public scoping meeting in Los Alamos, New Mexico. NNSA will instead hold the meeting at the Hilltop House Best Western, 400 Trinity Drive, Los Alamos, New Mexico. The meeting date and time, which are unchanged, are December 6, 2006, 10:30 a.m.-2:30 p.m.

The NOI listed the time of the meeting on December 12, 2006, in Livermore, California, as 11 a.m.-3 p.m. NNSA has extended the public comment portion of the meeting until 10 p.m. The meeting starting time of 11 a.m. is unchanged, and the meeting location is unchanged: Robert Livermore Community Center, 4444 East Avenue, Livermore, California.

NNSA is not changing the location or schedule for any other public scoping meeting announced in the NOI. This includes the meeting in Tracy, California, which still will be held on December 12, 2006, from 6 p.m.-10 p.m. at the Tracy Community Center, 950 East Street.

FOR FURTHER INFORMATION CONTACT: Please direct questions regarding these changes to Mr. Theodore A. Wyka, Complex 2030 Supplemental PEIS Document Manager, Office of Transformation, National Nuclear Security Administration (NA-10.1), U.S. Department of Energy, 1000 Independence Avenue, SW., Washington, DC 20585. Questions also may be telephoned, toll free, to 1-800-832-0885 (ext. 63519) or e-mailed to Complex2030@nnsa.doe.gov. Written comments on the scope of the Complex 2030 Supplemental PEIS or requests to be placed on the document distribution list can be sent to the Document Manager. Additional information regarding Complex 2030 is available at http://Complex2030PEIS.com.

Issued in Washington, DC, on November 14, 2006.
Thomas P. D'Agostino,
Deputy Administrator for Defense Programs, National Nuclear Security Administration.

[FR Doc. E6-19590 Filed 11-17-06; 8:45 am]

BILLING CODE 6450-01-P